DEPARTMENT OF HEALTH AND HUMAN SERVICES

National Institutes of Health

Animal Center Master Plan Record of Decision

SUMMARY: The Department of Health and Human Services, the National Institutes of Health (NIH), has decided, after completion of a Final Environmental Impact Statement (FEIS) and a thorough consideration of the public comments on the Draft EIS, to implement the Proposed Action, referred to as the Proposed Action in the Final EIS. This action is for a long-range physical Master Plan for National Institutes of Health Animal Center (NIHAC) located in Dickerson, Maryland. This alternative accounts for potential growth in NIHAC personnel, new construction, additions, renovations, demolitions, and upgrades in site utilities.

Responsible Official: Daniel G. Wheeland, Director, Office of Research Facilities Development and Operations, NIH.

FOR FURTHER INFORMATION CONTACT: Valerie Nottingham, Deputy Director, DEP, ORF, NIH, Building 13, Room 2S11, 9000 Rockville Pike, Bethesda, MD 20892, Phone 301-496-7775, nihnepa@mail.nih.gov.

SUPPLEMENTARY INFORMATION:

Decision

After careful review of the environmental consequences in the Final Environmental Impact Statement for the Master Plan, National Institutes of Health Animal Center, and consideration of public comment throughout the NEPA process, the NIH has decided to implement the Proposed Action described below as the Selected Alternative.

Selected Alternative

The Selected Alternative is intended to be a strategic tool for the efficient allocation of campus resources, the orderly accommodation of future growth, and the creation of an environment, which is both functionally and aesthetically conducive to accomplishing the NIHAC mission. The Selected Alternative will provide a guide for the reasoned and orderly development of the NIHAC campus, one that values and builds on existing resources, corrects current deficiencies and meets changing needs through new construction or renovation. The plan sets forth implementation priorities and a logical sequencing of planned development.

The Selected Alternative is for a long-range physical Master Plan for NIHAC. This alternative covers a 20-year planning period, with reviews every 5 years to ensure that the plan continues to address issues affecting the campus. The alternative addresses the future development of the NIHAC site, including placement of future construction; vehicular and pedestrian circulation on and off-campus; parking within the property boundaries; open space in and around the campus; required setbacks; historic properties; natural and scenic resources; noise; and lighting. This alternative accounts for potential growth in NIHAC personnel, and consequent construction of space over the planning period. Future construction on the site could include such facilities as new animal holding, research laboratories, and support facilities.

NIH will continue to develop NIHAC to accommodate NIH's research needs and required programmatic adjacencies consistent with the commitment to maintain the “campus” character of the site. The alternative advances this objective by programming and locating future NIHAC growth so that new development would tie into the existing utility services and utilities are available to support growth, and establishing development guidelines for future changes to the site that ensure that as the campus grows new development would be responsive to the context of adjacent neighborhoods or developments. Under the selected alternative, NIHAC's population is anticipated to grow in the next twenty years to a total campus population of 212. The primary growth at the campus would be in intramural research personnel and the administrative and facility staff to support them.

Alternatives Considered

The Proposed Action Alternative and No Action Alternative were the two alternatives analyzed in the Final EIS. The Master Plan covers a 20-year planning period, but will be reviewed every 5 years to ensure that the plan continues to remain current and relevant to the key issues affecting the campus. The alternatives addressed the future development of the NIHAC site, including placement of future construction; vehicular and pedestrian circulation on and off-campus; parking within the property boundaries; open space in and around the campus; required setbacks; historic properties; natural and scenic resources; noise; and lighting. They account for potential growth in NIHAC personnel, and consequent construction of space over the planning period. Future construction on the site could include such facilities as new animal holding, research laboratories, and support facilities.

Factors Involved in the Decision

The Department of Health and Human Services (HHS) requires that NIH facilities have a Master Plan; however, the previous Master Plan for the NIHAC campus was outdated. In addition, factors such as the aging of facilities that were designed only to accommodate temporary use, animal housing facilities that do not provide adequate space for projected increases in animal populations, and research support facilities not being adequate to sustain current and projected programs played a key role. The Master Plan contains information and recommendations to guide development of individual projects. It also serves as a means of informing city and county officials and utilities of future NIHAC development plans so they can anticipate and plan for the potential effects of NIHAC proposals on their systems.

Resources Impacts

The Final EIS describes potential environmental effects of the Selected Alternative. These potential effects are documented in Chapter 3 of the Final EIS. Any potential adverse environmental effects will be avoided or mitigated through design elements, procedures, and compliance with regulatory and NIH requirements. Potential impacts on air quality are all within government standards (federal, state, and local). NIH does not expect negative effects on the environment or on the citizens of Dickerson from construction and operations at NIHAC.

Summary of Impacts

The following is a summary of potential impacts resulting from the Selected Alternative that the NIH considered when making its decision. No adverse cumulative effects have been identified during the NEPA process. Likewise, no unavoidable or adverse impacts from implementation of the Selected Action have been identified. The Selected Alternative will be beneficial to the long-term productivity of the national and world health communities. Biomedical research conducted at the NIHAC facility will have the potential to advance techniques in disease prevention, develop disease immunizations, and prepare defenses against naturally emerging and re-emerging diseases and against bioweapons. Additionally, the local community will benefit from increased employment, income and, government and public finance.

Housing

NIHAC is located in a very rural area of Dickerson. Temporary impacts during construction are expected to have a minimal effect on the existing rural community.

Education

The current public school capacity in nearby Poolesville would be adequate to accommodate the expected minimal growth caused by the Selected Alternative.

Transportation

The potential increase in vehicular traffic generated by the Master Plan would only minimally contribute to the slight decrease in the level of service on the roadways in the vicinity of the campus. Existing arterial, connector, and local roads surrounding NIHAC are underutilized and have the capacity to support projected traffic increases associated with the Master Plan and the population growth. In addition, NIHAC is relatively isolated from existing and projected local centers of employment, residences, or retail, limiting potential effects on road infrastructure or traffic levels. Therefore, the minor increase in traffic volume associated with the Master plan is not expected to contribute to significant traffic concerns in the vicinity of NIHAC.

Security

The Master Plan would provide an entrance security and screening center, 100-foot vehicle separation from buildings, access control at loading docks, perimeter fence repair, and an emergency access for the campus to meet recently enacted safety requirements for government facilities.

Employment

If the Selected Alternative is fully implemented, up to only 13 new employees over the current 199 employees would be hired. Some of the new staff members are likely to move to Montgomery County, and possibly the Poolesville area, from outside the region.

Environmental Justice

As no minority or low-income populations occur within the analysis, Environmental Justice will not be discussed.

Visual Quality

The Master Plan's land use plan provides a framework to help organize future development at NIHAC so that similar land use types are consolidated while open space and natural features are preserved. NIHAC would exhibit the same basic types of land use as it does currently, but in a slightly different configuration. The Master Plan does not propose any land use changes outside NIHAC. Therefore, the NIHAC campus is anticipated to remain consistent with the county plan and zoning regulations.

Noise

To limit impacts to nearby residences, NIH would limit construction activities to normal daytime working hours. Under the Master Plan, the ambient noise levels at NIHAC would remain within Maryland and Montgomery County noise thresholds. Furthermore, any minor change in noise levels is not expected to affect the rural character of the site.

Air Quality

Air monitoring data at the stations closest to NIHAC demonstrate that ozone and PM ambient air quality pollutant concentrations have been steadily declining over the past 10 to 20 years (USEPA, 2012a). Therefore, the moderate increase in air emissions under the Master Plan is not expected to result in cumulative negative impacts to regional air quality.

Wastewater/Water Supply

The Master Plan recommends system upgrades and water conservation measures to address the Waste Water Treatment Plant (WWTP) capacity concern. The Master Plan would install an additional filter at the WWTP to increase the treatment capacity. Installation of the new filter, combined with implementation of the potable water conservation measures, should provide sufficient capacity to accommodate wastewater generated under the Master Plan and would accommodate a 20 percent factor of safety. NIH would evaluate the water demands and potential implementation of system upgrades and water conservation measures as they proceed through planning and design for each new facility.

If potable water conservation measures are not fully implemented, or the actual building designs result in greater than anticipated flows, the WWTP would likely require replacement or a major component upgrade. NIH would conduct a detailed study during Phase 1 of the Master Plan to evaluate the need for upgrades to the WWTP. Following the Phase 1 study, NIH would implement WWTP upgrades during Phases 2 and/or 3 of the Master Plan.

Expansion of the WWTP treatment capacity under the Master Plan may require a revised NPDES permit from MDE with updated effluent limitations. Prior to implementing upgrades, NIH would consult with MDE to identify the appropriate review and NPDES permitting requirements, which may involve opportunities for public comment. NIH would continue to operate the WWTP in accordance with the applicable NPDES permit limitations.

Historic Resources

NIH would comply with NHPA Section 106 by consulting with Maryland Historical Trust on the need for particular archeological studies as individual Master Plan project elements are funded, designed, and executed. In the event that eligible prehistoric resources are identified and adverse effects are anticipated, NIH would continue Section 106 consultation with the appropriate consulting parties (which would include MHT and may also include ACHP and Native American tribes) to establish a Memorandum of Agreement (MOA) to resolve adverse effects. Mitigation measures identified through this consultation could include in-place preservation through site avoidance, protection, or easement acquisition; development and implementation of a data recovery plan to retrieve and analyze the site's resources- implementation of innovative, alternative mitigation measures- or a combination of these measures.

Practicable Means to Avoid or Minimize Potential Environmental Harm From the Selected Alternative

All practicable means to avoid or minimize adverse environmental effects from the Selected Action have been identified and incorporated into the action. The proposed Master Plan construction will be subject to the existing NIHAC pollution prevention, waste management, and safety, security, and emergency response procedures as well as existing environmental permits. Best management practices, spill prevention and control, and stormwater management plans will be followed to appropriately address the construction and operation of the new Master Plan and comply with applicable regulatory and NIH requirements. No additional mitigation measures have been identified.

Pollution Prevention

Air quality permit standards will be met, as will all federal, state, and local requirements to protect the environment and public health.

Conclusion

Based upon review and careful consideration, the NIH has decided to implement the Selected Alternative for a long-range physical Master Plan for NIH Animal Center located in Dickerson, Maryland. The decision accounts for potential growth at NIHAC personnel, and consequent construction of space over the planning period.

The decision was based upon review and careful consideration of the impacts identified in the Final EIS and public comments received throughout the NEPA process.

Dated: September 27, 2013.
Daniel G. Wheeland,
Director, Office of Research Facilities Development and Operations, National Institutes of Health.

[FR Doc. 2013-24205 Filed 10-2-13; 8:45 am]

BILLING CODE 4140-01-P